DEPARTMENT OF HEALTH AND HUMAN SERVICES

Office of the Assistant Secretary for Planning and Evaluation (ASPE); Notice of a Cooperative Agreement with the Manpower Demonstration Research Corporation

The Office of the Assistant Secretary for Planning and Evaluation's (ASPE) Office of Human Services Policy announces that it will award a non-competitive continuation to a cooperative agreement with the Manpower Demonstration Research Corporation (MDRC) in support of the Project on Devolution and Urban Change.

The purpose of this cooperative agreement is to support research to understand the impacts of welfare reform and welfare to work programs on low-income individuals, families, and the communities in which they live, with an emphasis on urban areas.

ASPE will have substantial involvement in all stages of the project, including: identifying potential questions that could be answered using the data; prioritizing among them based on the available resources; determining appropriate methods of data analysis; reviewing draft papers and reports; and assisting in their dissemination.

The goal of ASPE in entering into this cooperative agreement is to improve our understanding of the impact of the Personal Responsibility and Work Opportunity Reconciliation Act of 1996 in urban areas.

Authorizing Legislation

This cooperative agreement is authorized under section 1110 of the Social Security Act (42 USC 1310) and the Agriculture, Rural Development, Food and Drug Administration, and Related Agencies Appropriations Act of 2000 (Pub. L. 106-78).

Background

Assistance will be provided to MDRC. No other applications are solicited. ASPE is committed to supporting high-quality research in the area of welfare policy, and has a particular interest in understanding the effects of welfare reform in urban areas. Most welfare reform studies to date have not been in large cities, and thus have not addressed the challenges posed by high levels of unemployment and by concentrated poverty. These questions are critical because caseloads have not declined as much in cities as in other parts of the country, and also because the lessons from urban areas may be applicable elsewhere in the case of an economic downturn.

ASPE believes that MDRC is uniquely qualified to work with ASPE to meet this goal for the following reasons:

1. The Project on Devolution and Urban Change presents a unique opportunity to learn about the implementation and impacts of welfare reform in four large urban areas “ Cleveland, Philadelphia, Los Angeles, and Miami. MDRC has an ongoing working relationship with key officials in each city and has already obtained commitments from the state and local governments in these areas to provide extensive longitudinal administrative data for research purposes.

2. This project brings together data from an unusually wide array of sources: longitudinal administrative data for all families receiving AFDC/TANF or Food Stamps dating back to 1992; survey data; an implementation study; neighborhood indicators; an institutional study focusing on local service providers; and an ethnographic study of a limited number of families. This will allow the researchers to capture effects that might be missed in one approach, and to improve our understanding of the strengths and weaknesses of each approach. It is unlikely that this breadth of sources could be replicated. MDRC has assembled a multi-disciplinary team of distinguished researchers to collect and analyze this data.

3. This project leverages a substantial commitment of private sector funding. Of the total $20.4 million cost of the Project on Devolution and Urban Change, over $16 million has already been committed by private funders, with an additional $1.7 million in pending proposals. This funding allows for a breadth of research far beyond what could be purchased with the federal support alone.

4. MDRC is one of the pre-eminent institutions in the area of welfare and welfare-to-work research, having conducted projects in over 400 communities in 40 states. MDRC has developed a reputation for objective, high-quality work. This project will involve several of MDRC's senior researchers, as well as consultants who are recognized as leaders in their areas of concentration.

Approximately $900,000 is available in FY 2000 for a one-year project period of this cooperative agreement. A portion of this support is provided by the Administration for Children and Families, HHS, and the Economic Research Service, U.S. Department of Agriculture.

Where to Obtain Additional Information

If you are interested in obtaining additional information regarding this project, contact Ms. Elizabeth Lower-Basch, Office of Human Services Policy, ASPE, 200 Independence Ave. SW., Room 404E, Washington, DC, 20201 or telephone: 202 690-6808.

Dated: August 2, 2000.
Margaret A. Hamburg,
Assistant Secretary for Planning and Evaluation.

[FR Doc. 00-20350 Filed 8-10-00; 8:45 am]

BILLING CODE 4154-06-P